DEPARTMENT OF THE INTERIOR

National Park Service

[DOI-2021-0004; PPWOVPADP5 PPMPRLE1Z.Y00000]

Privacy Act of 1974; System of Records

AGENCY: National Park Service, Interior.

ACTION: Rescindment of a system of records notice.

SUMMARY: The Department of the Interior (DOI) is issuing a public notice of its intent to rescind the National Park Service (NPS) Privacy Act system of records, INTERIOR/NPS-19, Case Incident Reporting System, as these records are covered by an existing Department-wide system of records notice (SORN). This rescindment will eliminate an unnecessary duplicate notice and promote the overall streamlining and management of DOI Privacy Act systems of records.

DATES: These changes take effect on September 17, 2021.

ADDRESSES: You may send comments identified by docket number [DOI-2021-0004] by any of the following methods:

• Federal eRulemaking Portal: http://www.regulations.gov. Follow the instructions for sending comments.

• Email: DOI_Privacy@ios.doi.gov. Include docket number [DOI-2021-0004] in the subject line of the message.

• U.S. mail or hand-delivery: Teri Barnett, Departmental Privacy Officer, U.S. Department of the Interior, 1849 C Street NW, Room 7112, Washington, DC 20240.

Instructions: All submissions received must include the agency name and docket number [DOI-2021-0004]. All comments received will be posted without change to http://www.regulations.gov, including any personal information provided.

Docket: For access to the docket to read background documents or comments received, go to http://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: (1) Edward Zawislak, Administrative Officer, National Park Service, 1100 Ohio Drive SW, Washington DC 20242, edward_zawislak@nps.gov or 202-781-7085; (2) John Leonard, Chief, Division of Law Enforcement & Emergency Services, National Park Service, 1849 C Street NW, Suite 2468, Washington, DC 20240, john_leonard@nps.gov or (202) 513-7162; or (3) Felix Uribe, Associate Privacy Officer, National Park Service, 12201 Sunrise Valley Drive, Reston, VA 20192, nps_privacy@nps.gov or (202) 354-6925.

SUPPLEMENTARY INFORMATION: Pursuant to the provisions of the Privacy Act of 1974, as amended, 5 U.S.C. 552a, the NPS is rescinding the INTERIOR/NPS-19, Case Incident Reporting System, SORN. This system helped NPS manage incidents, accidents, criminal investigations, and support law enforcement activities. DOI published a Department-wide SORN, INTERIOR/DOI-10, Incident Management, Analysis and Reporting System, 79 FR 31974 (June 3, 2014), which covers all DOI bureau and office law enforcement organizations. NPS maintains all investigations and law enforcement related records under the Department-wide SORN. Therefore, NPS is rescinding the SORN for INTERIOR/NPS-19, Case Incident Reporting System, to eliminate an unnecessary duplicate notice in accordance with the Office of Management and Budget Circular A-108, Federal Agency Responsibilities for Review, Reporting, and Publication under the Privacy Act.

Rescinding the INTERIOR/NPS-19, Case Incident Reporting System, SORN will have no adverse impacts on individuals as the records are covered under INTERIOR/DOI-10, Incident Management, Analysis and Reporting System. Individuals may continue to seek access to or correction of their records under the DOI-10 SORN. This rescindment will also promote the overall streamlining and management of DOI Privacy Act systems of records. This notice hereby rescinds the SORN for INTERIOR/NPS-19, Case Incident Reporting System, as identified below.

SYSTEM NAME AND NUMBER:

INTERIOR/NPS-19, Case Incident Reporting System.

HISTORY:

70 FR 1274 (January 6, 2005); modification published 73 FR 63992 (October 28, 2008).

Teri Barnett,
Departmental Privacy Officer, Department of the Interior.

[FR Doc. 2021-20093 Filed 9-16-21; 8:45 am]

BILLING CODE 4312-52-P